DEPARTMENT OF ENERGY

Federal Energy Regulatory Commission

Combined Notice of Filings #1

Take notice that the Commission received the following electric rate filings:

Docket Numbers: ER17-2218-002.

Applicants: PJM Interconnection, L.L.C.

Description: Compliance filing: Compliance Filing to 12.29.17 Order in ER17-2218—Revisions to PJM-MISO JOA to be effective 10/1/2017.

Filed Date: 1/5/18.

Accession Number: 20180105-5011.

Comments Due: 5 p.m. ET 1/26/18.

Docket Numbers: ER17-2220-002.

Applicants: Midcontinent Independent System Operator, Inc.

Description: Compliance filing: 2018-01-04_2017-08-01_Compliance filing re MISO-PJM JOA pseudo tie revisions to be effective 10/1/2017.

Filed Date: 1/4/18.

Accession Number: 20180104-5143.

Comments Due: 5 p.m. ET 1/25/18.

Docket Numbers: ER17-2513-001.

Applicants: Public Service Company of New Mexico.

Description: Compliance filing: Notice of Effective Date to be effective N/A.

Filed Date: 1/5/18.

Accession Number: 20180105-5039.

Comments Due: 5 p.m. ET 1/26/18.

Docket Numbers: ER18-597-000.

Applicants: ITC Midwest LLC.

Description: § 205(d) Rate Filing: Filing of a Master JUA for Distribution Underbuild with SW IA Rural Elec Coop to be effective 3/5/2018.

Filed Date: 1/4/18.

Accession Number: 20180104-5139.

Comments Due: 5 p.m. ET 1/25/18.

Docket Numbers: ER18-598-000.

Applicants: Midcontinent Independent System Operator, Inc.

Description: § 205(d) Rate Filing: 2018-01-04_SA 3081 UMERC-ATC GIA (J704) to be effective 12/19/2017.

Filed Date: 1/4/18.

Accession Number: 20180104-5147.

Comments Due: 5 p.m. ET 1/25/18.

Docket Numbers: ER18-599-000.

Applicants: Southwest Power Pool, Inc.

Description: § 205(d) Rate Filing: 3388 East River Electric/Otter Tail Power/MISO Int Agr to be effective 1/1/2018.

Filed Date: 1/4/18.

Accession Number: 20180104-5153.

Comments Due: 5 p.m. ET 1/25/18.

Docket Numbers: ER18-599-000.

Applicants: Southwest Power Pool, Inc.

Description: § 205(d) Rate Filing: 3388 East River Electric/Otter Tail Power/MISO Int Agr to be effective 1/1/2018.

Filed Date: 1/4/18.

Accession Number: 20180104-5154.

Comments Due: 5 p.m. ET 1/25/18.

Docket Numbers: ER18-600-000.

Applicants: Midcontinent Independent System Operator, Inc., Otter Tail Power Company.

Description: § 205(d) Rate Filing: 2018-01-04_SA 3080 OTP-East River T-T (Blair) to be effective 1/1/2018.

Filed Date: 1/4/18.

Accession Number: 20180104-5155.

Comments Due: 5 p.m. ET 1/25/18.

Docket Numbers: ER18-600-000.

Applicants: Midcontinent Independent System Operator, Inc., Otter Tail Power Company.

Description: § 205(d) Rate Filing: 2018-01-04_SA 3080 OTP-East River T-T (Blair) to be effective 1/1/2018.

Filed Date: 1/4/18.

Accession Number: 20180104-5156.

Comments Due: 5 p.m. ET 1/25/18.

Docket Numbers: ER18-601-000.

Applicants: Southern California Edison Company.

Description: § 205(d) Rate Filing: Four SGIAs Monolith 4, 5 6, 7 Projects Terra-Gen 251 Wind, LLC to be effective 1/17/2018.

Filed Date: 1/4/18.

Accession Number: 20180104-5163.

Comments Due: 5 p.m. ET 1/25/18.

Docket Numbers: ER18-602-000.

Applicants: Southwest Power Pool, Inc.

Description: § 205(d) Rate Filing: Central Power Electric Cooperative Depreciation Rates to be effective 1/1/2016.

Filed Date: 1/4/18.

Accession Number: 20180104-5165.

Comments Due: 5 p.m. ET 1/25/18.

Docket Numbers: ER18-603-000.

Applicants: Southern California Edison Company.

Description: § 205(d) Rate Filing: GIA and Distrib Serv Agmt Wintec Energy, LTD—Wintec Palm Project WDT1506 to be effective 1/2/2018.

Filed Date: 1/5/18.

Accession Number: 20180105-5010.

Comments Due: 5 p.m. ET 1/26/18.

Docket Numbers: ER18-604-000.

Applicants: New York Independent System Operator, Inc.

Description: Petition for Temporary Tariff Waivers of New York Independent System Operator, Inc.

Filed Date: 1/4/18.

Accession Number: 20180104-5178.

Comments Due: 5 p.m. ET 1/11/18.

Docket Numbers: ER18-605-000.

Applicants: Mid-Atlantic Interstate Transmission, LLC, PJM Interconnection, L.L.C.

Description: § 205(d) Rate Filing: MAIT submits Operating and Interconnection Agreements SA Nos. 4577 and 4578 to be effective 3/7/2018.

Filed Date: 1/5/18.

Accession Number: 20180105-5038.

Comments Due: 5 p.m. ET 1/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2018.
Nathaniel J. Davis, Sr.,
Deputy Secretary.

[FR Doc. 2018-00324 Filed 1-10-18; 8:45 am]

BILLING CODE 6717-01-P